DEPARTMENT OF AGRICULTURE

Submission for OMB Review; Comment Request

March 4, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 8, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Fresh Peppers from Ecuador into the United States.

Control Number: 0579-0437.

Summary of Collection: The Plant Protection Act (PPA, 7 U.S.C. 7701 et seq.) authorizes the Secretary of Agriculture to restrict the importation, entry, or interstate movement of plants, plant products, and other articles within the United States to prevent the introduction of plant pests or their dissemination. The Animal and Plant Health Inspection Service (APHIS) Plant Protection and Quarantine (PPQ) Program enforces the Act by regulating the importation of fruits and vegetables into the United States using regulations found in Title 7, Section 319.56 of the Code of Federal Regulations (CFR) under “Subpart—Fruits and Vegetables”, and the Fruits and Vegetables Import Requirements (FAVIR) manual.

Need and Use of the Information: APHIS will use information collection activities and actions to ensure regulatory conditions are met. These activities include development of an operational workplan and a quality control plan; production site and packinghouse registrations; crop and insect trap inspections and recordkeeping; box labeling; notices of arrival to ports; responses to emergency action notifications, and permit application. Also, each consignment of peppers must be accompanied by a phytosanitary certificate issued by the national plant protection organization (NPPO) of Ecuador and containing an additional declaration stating the peppers were grown, packed, and shipped in accordance with § 319.56. These actions are the minimum necessary to allow the importation of fresh peppers from Ecuador while also protecting the United States against the introduction of plant pests.

Description of Respondents: NPPO of Ecuador; and commercial producers, packinghouses, and import brokers.

Number of Respondents: 803.

Frequency of Responses: Reporting on occasion, recordkeeping, third party disclosure.

Total Burden Hours: 2,117 hours.

Ruth Brown,
Departmental Information Collection Clearance Officer.

[FR Doc. 2019-04121 Filed 3-6-19; 8:45 am]

BILLING CODE 3410-34-P